DEPARTMENT OF HOMELAND SECURITY

Federal Emergency Management Agency

[Docket ID FEMA-2017-0002; Internal Agency Docket No. FEMA-B-1753]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 7, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1753, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

Community | Community map repository address
Boulder County, Colorado and Incorporated Areas
Project: 15-08-1362S Preliminary Date: February 16, 2017
City of Lafayette | City Hall, 1290 South Public Road, Lafayette, CO 80026.
City of Louisville | City Hall, 749 Main Street, Louisville, CO 80027.
Town of Erie | Town Hall, 645 Holbrook Street, Erie, CO 80516.
Town of Superior | Town Hall, 124 East Coal Creek Drive, Superior, CO 80027.
Unincorporated Areas of Boulder County | Boulder County Transportation Department, 2525 13th Street, Suite 203, Boulder, CO 80304.
City and County of Broomfield, Colorado
Project: 15-08-1362S Preliminary Date: February 16, 2017
City and County of Broomfield | City Hall, Engineering Department, 1 DesCombes Drive, Broomfield, CO 80020.
Floyd County, Georgia and Incorporated Areas
Project: 13-04-8403S Preliminary Date: February 14, 2017
City of Rome | City Hall, 601 Broad Street, Rome, GA 30161.
Unincorporated Areas of Floyd County | Historic Floyd County Courthouse, 4 Government Plaza, Rome, GA 30161.
Forsyth County, Georgia and Incorporated Areas
Project: 13-04-8403S Preliminary Date: February 14, 2017
Unincorporated Areas of Forsyth County | Forsyth County Administrative Building, 110 East Main Street, Suite 120, Cumming, GA 30040.
Paulding County, Georgia and Incorporated Areas
Project: 13-04-8403S Preliminary Date: February 14, 2017
City of Dallas | City Hall, 129 East Memorial Drive, Dallas, GA 30132.
Unincorporated Areas of Paulding County | Paulding County Development Division, 240 Constitution Boulevard, Dallas, GA 30132.
Polk County, Georgia and Incorporated Areas
Project: 13-04-8403S Preliminary Date: February 14, 2017 and June 15, 2017
City of Rockmart | City Hall, 316 North Piedmont Avenue, Building 100, Rockmart, GA 30153.
Unincorporated Areas Polk County | Polk County Building Inspection Department, 144 West Avenue, Suite C, Cedartown, GA 30125.
Missoula County, Montana and Incorporated Areas
Project: 15-08-1417S Preliminary Date: March 30, 2017
Unincorporated Areas of Missoula County | Missoula County Community and Planning Services Department, 323 West Alder Street, Missoula, MT 59802.
Richland County, Montana and Incorporated Areas
Project: 17-08-0127S Preliminary Date: February 22, 2017
Unincorporated Areas of Richland County | Richland County Courthouse, 201 West Main Street, Sidney, MT 59270.
Austin County, Texas and Incorporated Areas
Project: 14-06-1382S Preliminary Date: January 30, 2017
City of Bellville | City Hall, 30 South Holland Street, Bellville, TX 77418.
City of Industry | City Hall, 725 Main Street, Industry, TX 78944.
City of Sealy | Planning and Public Works Building, 405 Main Street, Sealy, TX 77474.
Town of San Felipe | Town Hall, 927 6th Street, San Felipe, TX 77473.
Unincorporated Areas of Austin County | Austin County Courthouse, 1 East Main Street, Bellville, TX 77418.
Fort Bend County, Texas and Incorporated Areas
Project: 14-06-1382S Preliminary Date: January 30, 2017
City of Fulshear | City Hall, 30603 FM 1093, Fulshear, TX 77441.
City of Simonton | City Hall, 35011 FM 1093, Simonton, TX 77476.
City of Weston Lakes | Simonton City Hall, 35011 FM 1093, Simonton, TX 77476.
Unincorporated Areas of Fort Bend County | Fort Bend County Drainage District, 1124 Blume Road, Rosenberg, TX 77471.
Village of Fairchilds | Fairchild Volunteer Fire Department, 8713 Fairchild Road, Richmond, TX 77469.
Village of Pleak | Pleak Village Hall, 6621 FM 2218 South, Richmond, TX 77469.
Fort Bend County, Texas and Incorporated Areas
Project: 14-06-1988S Preliminary Date: January 30, 2017
City of Houston | Public Works and Engineering Department, Houston Permitting Center, 1002 Washington Avenue, 3rd Floor, Houston, TX 77002.
Unincorporated Areas of Fort Bend County | Fort Bend County Drainage District, 1124 Blume Road, Rosenberg, TX 77471.
Harris County, Texas and Incorporated Areas
Project: 14-06-1988S Preliminary Date: January 30, 2017
City of Houston | Public Works and Engineering Department, Houston Permitting Center, 1002 Washington Avenue, 3rd Floor, Houston, TX 77002.
City of Missouri City | City Hall, 1522 Texas Parkway, Missouri City, TX 77489.
City of South Houston | City Hall, 1018 Dallas Street, South Houston, TX 77587.
Unincorporated Areas of Harris County | Harris County Engineering Department, Permit Division, 10555 Northwest Freeway, Suite 120, Houston, TX 77092.
Waller County, Texas and Incorporated Areas
Project: 14-06-1382S Preliminary Date: January 30, 2017
City of Hempstead | City Hall, 1125 Austin Street, Hempstead, TX 77445.
City of Prairie View | City Hall, 44500 Business Highway 290, Prairie View, TX 77446.
Unincorporated Areas of Waller County | Waller County Courthouse, 836 Austin Street, Hempstead, TX 77445.
Washington County, Texas and Incorporated Areas
Project: 14-06-1382S Preliminary Date: January 30, 2017
Unincorporated Areas of Washington County | Washington County Courthouse Annex, 105 West Main Street, Suite 100, Brenham, TX 77833.

[FR Doc. 2017-26341 Filed 12-6-17; 8:45 am]

BILLING CODE 9110-12-P